DEPARTMENT OF COMMERCE

National Telecommunications and Information Administration

[Docket No. 170105023-7023-01]

RIN 0660-XC033

The Benefits, Challenges, and Potential Roles for the Government in Fostering the Advancement of the Internet of Things

AGENCY: National Telecommunications and Information Administration, U.S. Department of Commerce.

ACTION: Notice, request for public comment.

SUMMARY: Recognizing the vital importance of the Internet to U.S. innovation, prosperity, education, and civic and cultural life, the Department of Commerce (Department) has made it a top priority to encourage growth of the digital economy and ensure that the Internet remains an open platform for innovation. Thus, as part of the Department's Digital Economy Agenda, the National Telecommunications and Information Administration (NTIA) issued a green paper “Fostering the Advancement of the Internet of Things” that lays out an approach and areas of engagement for the Department's possible future work on the Internet of Things (IoT). Through this Notice, NTIA seeks broad input from all interested stakeholders—including the private industry, researchers, academia, and civil society—on the issues and proposed approach, current initiatives, and next steps laid out in this paper. These comments will help inform Department leadership on possible future Department action regarding IoT.

DATES: Comments are due on or before 5 p.m. Eastern Time on February 27, 2017.

ADDRESSES: Written comments may be submitted by email to iotrfc2017@ntia.doc.gov. Comments submitted by email should be machine-readable and should not be copy-protected. Written comments also may be submitted by mail to the National Telecommunications and Information Administration, U.S. Department of Commerce, 1401 Constitution Avenue NW., Room 4725, Attn: IOT RFC 2017, Washington, DC 20230. Responders should include the name of the person or organization filing the comment, as well as a page number on each page of their submissions. All comments received are a part of the public record and will generally be posted on the NTIA Web site, http://www.ntia.doc.gov/, without change. All personal identifying information (for example, name, address) voluntarily submitted by the commenter may be publicly accessible. Do not submit confidential business information or otherwise sensitive or protected information. NTIA will accept anonymous comments.

FOR FURTHER INFORMATION CONTACT: Travis Hall, National Telecommunications and Information Administration, U.S. Department of Commerce, 1401 Constitution Avenue NW., Room 4725, Washington, DC 20230; telephone (202) 482-3522; email thall@ntia.doc.gov. Please direct media inquiries to NTIA's Office of Public Affairs, (202) 482-7002, or at press@ntia.doc.gov.

SUPPLEMENTARY INFORMATION: Background: As part of the Department's Digital Economy Agenda, the National Telecommunications and Information Administration (NTIA) is requesting comment on the benefits, challenges, and potential roles for the government in fostering the advancement of the Internet of Things (IoT).

The Internet of Things—in which connected devices are proliferating at an unprecedented rate—is transforming the way we live and do business. IoT continues the decades-long trend of increasing connectivity among devices and the Internet, bringing online everything from refrigerators to automobiles to factory inventory systems. At the same time, IoT encompasses a widening scope of industries and activities and a vastly increasing scale and number of devices being connected, thus raising the stakes and impacts of broad connectivity. Due to its expertise and experience with the issues raised by IoT, as well as its economy-wide perspective, the Department is well placed to meet the challenges of IoT and to champion the development of a robust IoT environment that benefits consumers, the economy, and society as a whole.

With an April 2016 Request for Comment, “The Benefits, Challenges, and Potential Roles for the Government in Fostering the Advancement of the Internet of Things,” the Department sought to review the current technological and policy landscape relating to IoT.¹ A broad array of stakeholders—from the private sector, academia, government, and civil society—offered perspectives in response to the request.² In September 2016, the Department hosted a workshop to delve deeper into the questions raised by the Request for Comment, and to explore some of the related issues arising from the public comments.³ The Department issued a green paper entitled “Fostering the Advancement of the Internet of Things,” which represents the Department's analysis of those comments.⁴ The green paper also identifies key issues that can impact the deployment of IoT technologies, highlights potential benefits and challenges, and discusses what role, if any, the U.S. Government, particularly the Department, should play in this evolving landscape. With this Request for Comment, the Department is asking for a response to the issues raised by the green paper, as well as the proposed approach, current initiatives, and next steps.

¹ Request for Comments on the Benefits, Challenges, and Potential Roles for the Government in Fostering the Advancement of the Internet of Things, 81 FR 19956 (April 16, 2016), available at https://ntia.doc.gov/federal-register-notice/2016/rfc-potential-roles-government-fostering-advancement-internet-of-things.

² All comments are publicly available at: https://ntia.doc.gov/federal-register-notice/2016/comments-potential-roles-government-fostering-advancement-internet-of-things.

³ “Fostering the Advancement of the Internet of Things Workshop Webcast,” September 1, 2016, available at https://ntia.doc.gov/other-publication/2016/09012016-fostering-advancement-internet-things-workshop-webcast (In addition to the webcast, also available are the Workshop agenda, transcript, and various presentations).

⁴ The IOT green paper is available at: https://www.ntia.doc.gov/other-publication/2017/green-paper-fostering-advancement-internet-things.

Request for Comment

Instructions for Commenters: The Department invites comment on the full range of issues that may be presented by this inquiry, including issues that are not specifically raised in the following questions. Commenters are encouraged to address any or all of the following questions. Comments that contain references to studies, research, and other empirical data that are not widely published should include copies of the referenced materials with the submitted comments.

(1) Is our discussion of IoT presented in the green paper regarding the challenges, benefits, and potential role of government accurate and/or complete? Are there issues that we missed, or that we need to reconsider?

(2) Is the approach for Departmental action to advance the Internet of Things comprehensive in the areas of engagement? Where does the approach need improvement?

(3) Are there specific tasks that the Department should engage in that are not covered by the approach?

(4) What should the next steps be for the Department in fostering the advancement of IoT?

For any response, commenters may wish to consider describing specific goals or actions that the Department, or the U.S. Government in general, might take (on its own or in conjunction with the private sector) to achieve those goals; the benefits and costs associated with the action; whether the proposal is agency-specific or interagency; the rationale and evidence to support it; and the roles of other stakeholders.

Dated: January 10, 2017.
Kathy D. Smith,
Chief Counsel, National Telecommunications and Information Administration.

[FR Doc. 2017-00720 Filed 1-12-17; 8:45 am]

BILLING CODE 3510-60-P